DEPARTMENT OF AGRICULTURE

Forest Service

Newspapers for Publication of Legal Notices in the Northern Region

AGENCY: Forest Service, USDA.

ACTION: Notice.

SUMMARY: This notice lists the newspapers that will be used by all Ranger Districts, Forests, Grasslands, and the Regional Office of the Northern Region to publish legal notices for public comment and decisions subject to predecisional administrative review. The intended effect of this action is to inform interested members of the public which newspapers will be used to publish legal notices for public comment or decisions, thereby allowing them to receive constructive notice of a decision, to provide clear evidence of timely notice, and to achieve consistency in administering the objection processes.

DATES: Publication of legal notices in the listed newspapers will begin with decisions subject to administrative review that are made the first day following the date of this publication. The list of newspapers will remain in effect until another notice is published in the Federal Register.

FOR FURTHER INFORMATION CONTACT: Cody Hutchinson, Regional Administrative Review and Litigation Coordinator, Northern Region, 26 Fort Missoula Road, Missoula, Montana 59804; or by phone at (406) 329-3381 or email at cody.hutchinson@usda.gov.

SUPPLEMENTARY INFORMATION: The newspapers to be used are as follows:

Northern Region Regional Forester Decisions for:

Montana: The Missoulian, Great Falls Tribune, and The Billings Gazette;

Northern Idaho and Eastern Washington: Coeur d'Alene Press and Lewiston Tribune; North Dakota and South Dakota: Bismarck Tribune.

Northern Region Forest Supervisor and District Ranger Decisions for:

Beaverhead-Deerlodge National Forest—The Montana Standard;

Bitterroot National Forest—Ravalli Republic;

Custer Gallatin National Forest—Billings Gazette and Bozeman Chronicle (Montana); Rapid City Journal (South Dakota);

Dakota Prairie Grasslands—Bismarck Tribune (North and South Dakota);

Flathead National Forest—Daily Inter Lake;

Helena-Lewis and Clark National Forest—Helena Independent Record;

Idaho Panhandle National Forests—Coeur d'Alene Press;

Kootenai National Forest—The Missoulian;

Lolo National Forest—The Missoulian;

Nez Perce-Clearwater National Forests—Lewiston Morning Tribune.

Supplemental notices may be placed in any newspaper, but timeframes and deadlines will be calculated based upon notices in newspapers of record listed above.

Lisa A. Northrop,
Acting Associate Deputy Chief, National Forest System.

[FR Doc. 2020-08660 Filed 4-22-20; 8:45 am]

BILLING CODE 3411-15-P